COMMITTEE FOR PURCHASE FROM PEOPLE WHO ARE BLIND OR SEVERELY DISABLED

Procurement List, Proposed Additions And Deletion

AGENCY: Committee for Purchase From People Who Are Blind or Severely Disabled.

ACTION: Proposed Additions to and Deletion from the Procurement List.

SUMMARY: The Committee is proposing to add products to the Procurement List that will be furnished by nonprofit agencies employing persons who are blind or have other severe disabilities, and deletes a product previously furnished by such agency.

DATES: Comments Must Be Received On Or Before: 3/13/2016.

ADDRESSES: Committee for Purchase From People Who Are Blind or Severely Disabled, 1401 S. Clark Street, Suite 715, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN(s)—Product Name(s): MR 874—Potato Masher; MR 867—Cup, Measuring, Angled

Mandatory Source(s) of Supply: Cincinnati Association for the Blind, Cincinnati, OH

Mandatory Purchase For: Military commissaries and exchanges in accordance with the Code of Federal Regulations, Chapter 51, 51-6.4.

Contracting Activity: Defense Commissary Agency

Distribution: C-List

NSN(s)—Product Name(s): 4330-01-398-8484—Filter Element, Fluid

Mandatory Source(s) of Supply: Crossroads Rehabilitation Center, Inc., Indianapolis, IN

Mandatory Purchase For: 100% of the requirement of the Department of Defense

Contracting Activity: Defense Logistics Agency Land and Maritime

Distribution: C-List

NSN(s)—Product Name(s):

6650-00-NIB-0009—Complete Eyeglass CR-39 Single Vision, plastic, clr

6650-00-NIB-0010—Complete Eyeglass CR-39 Flat Top 28 Bifocal, clr

6650-00-NIB-0011—Complete Eyeglass CR-39 Flat Top 35 Bifocal, clr

6650-00-NIB-0012—Complete Eyeglass CR-39 Round 25 & 28, clr

6650-00-NIB-0013—Complete Eyeglass CR-39 Flat Top 7 x 28, clr

6650-00-NIB-0014—Complete Eyeglass CR-39 Flat Top 8 x 35, clr

6650-00-NIB-0015—Complete Eyeglass CR-39 Progressives, clr

6650-00-NIB-0016—Complete Eyeglass CR-39 SV Aspheric Lentic.

6650-00-NIB-0017—Complete Eyeglass CR-39 Flat Top-Round Asph Len

6650-00-NIB-0018—Complete Eyeglass CR-39 Exec. Bifocal, clr

6650-00-NIB-0019—Complete Eyeglass Glass Single Vision, clr

6650-00-NIB-0020—Complete Eyeglass Glass Flat Top 28 Bifocal, clr

6650-00-NIB-0021—Complete Eyeglass Glass Flat Top 35 Bifocal, clr

6650-00-NIB-0022—Complete Eyeglass Glass Flat Top 7 x 28, trifoc, clr

6650-00-NIB-0023—Complete Eyeglass Glass Flat Top 8 x 35, trifoc, clr

6650-00-NIB-0024—Complete Eyeglass Glass Progressives, clr

6650-00-NIB-0025—Complete Eyeglass Glass Executive Bifocal, clr

6650-00-NIB-0026—Complete Eyeglass Polycarb SV = Single Vision, clr

6650-00-NIB-0027—Complete Eyeglass Polycarb Flat Top 28, clr

6650-00-NIB-0028—Complete Eyeglass Polycarb Flat Top 35, clr

6650-00-NIB-0029—Complete Eyeglass Polycarb Flat Top 7 x 28, clr

6650-00-NIB-0030—Complete Eyeglass Polycarb Flat Top 8 x 35, clr

6650-00-NIB-0031—Complete Eyeglass Polycarb Progressives, clr

6650-00-NIB-0032—Lenses Only, 1 pair CR-39 Single Vision, plastic, clr

6650-00-NIB-0033—Lenses Only, 1 pair CR-39 Flat Top 28 Bifocal, clr

6650-00-NIB-0034—Lenses Only, 1 pair CR-39 Flat Top 35 Bifocal, clr

6650-00-NIB-0035—Lenses Only, 1 pair CR-39 Round 25 & 28, clr

6650-00-NIB-0036—Lenses Only, 1 pair CR-39 Flat Top 7 x 28, clr

6650-00-NIB-0037—Lenses Only, 1 pair CR-39 Flat Top 8 x 35, clr

6650-00-NIB-0038—Lenses Only, 1 pair CR-39 Progressives, clr

6650-00-NIB-0039—Lenses Only, 1 pair CR-39 SV Aspheric Lentic.

6650-00-NIB-0040—Lenses Only, 1 pair CR-39 Flat Top/Round Asph Len

6650-00-NIB-0041—Lenses Only, 1 pair CR-39 Exec. Bifocal, clr

6650-00-NIB-0042—Lenses Only, 1 pair Glass Single Vision, clr

6650-00-NIB-0043—Lenses Only, 1 pair Glass Flat Top 28 Bifocal, clr

6650-00-NIB-0044—Lenses Only, 1 pair Glass Flat Top 35 Bifocal, clr

6650-00-NIB-0045—Lenses Only, 1 pair Glass Flat Top 7 x 28, trifoc, clr

6650-00-NIB-0046—Lenses Only, 1 pair Glass Flat Top 8 x 35, trifoc, clr

6650-00-NIB-0047—Lenses Only, 1 pair Glass Progressives, clr

6650-00-NIB-0048—Lenses Only, 1 pair Glass Executive Bifocal, clr

6650-00-NIB-0049—Lenses Only, 1 pair Polycarb SV = Single Vision, clr

6650-00-NIB-0050—Lenses Only, 1 pair Polycarb Flat Top 28, clr

6650-00-NIB-0051—Lenses Only, 1 pair Polycarb Flat Top 35 clr

6650-00-NIB-0052—Lenses Only, 1 pair Polycarb Flat Top 7 x 28, clr

6650-00-NIB-0053—Lenses Only, 1 pair Polycarb Flat Top 8 x 35, clr

6650-00-NIB-0054—Lenses Only, 1 pair Polycarb Progressives, clr

6650-00-NIB-0055—Photochr/Transition, CR-39 SV or MF (MF = Multi-focal)

6650-00-NIB-0056—Photochr-transition Polycarb SV or MF

6650-00-NIB-0057—Photogrey Glass SV or MF

6650-00-NIB-0058—Hi Index Transitions CR-39 SV or MF

6650-00-NIB-0059—Anti-refl. Coating CR-39—PC SV or MF

6650-00-NIB-0060—UV coating CR39

6650-00-NIB-0061—Polariz. Lens CR-39 SV or MF

6650-00-NIB-0062—Slab-off CR-39 SV or MF

6650-00-NIB-0063—Hi Index High Index SV or MF

6650-00-NIB-0064—Prism CR-39 or PC

6650-00-NIB-0065—Diopter CR-39 + or − 9.0

6650-00-NIB-0066—Roll/polish edge CR-39, PC SV or MF

6650-00-NIB-0067—Hyper3 drop SV, MF CR-39 SV or MF

6650-00-NIB-0068—Add Powers over 4.0 CR-39 MF Only

6650-00-NIB-0069—Frame Only Plastic or Metal

Mandatory Source(s) of Supply: Winston-Salem Industries for the Blind, Inc., Winston-Salem, NC

Mandatory Purchase For: Department of Veterans Affairs, Veterans Integrated Service Network (VISN) 6 Medical Centers; Community Based Outpatient Clinics (CBOCs); and Health Care Centers that provide optical services

Contracting Activity: Department of Veterans Affairs, Veterans Integrated Service Network (VISN) 6

Distribution: C-List

Deletion

The following product is proposed for deletion from the Procurement List:

Product

NSN(s)—Product Name(s): 7520-00-224-7238—Desk Blotter Pad, 19¼″ x 24¼″, Buff

Mandatory Source(s) of Supply: Life'sWork of Western PA

Contracting Activity: General Services Administration

Barry S. Lineback,
Director, Business Operations.

[FR Doc. 2016-02943 Filed 2-11-16; 8:45 am]

BILLING CODE 6353-01-P